INTERNATIONAL TRADE COMMISSION

Agency Form Submitted for OMB Review

AGENCY: United States International Trade Commission.

ACTION: The United States International Trade Commission (USITC) has submitted a request for emergency processing to the Office of Management and Budget for review and clearance of a questionnaire, in accordance with the provisions of the Paperwork Reduction Act of 1995 (44 U.S.C. Chapter 35). The USITC has requested OMB approval of this submission by COB November 1, 2004.

Purpose of Information Collection: The form is for use by the Commission in connection with investigation No. 332-463, Logistic Services: An Overview of the Global Market and Potential Effects of Removing Trade Impediments, instituted under the authority of section 332(g) of the Tariff Act of 1930 (19 U.S.C. 1332(g)). This investigation was requested by the Office of the United States Trade Representative (USTR). The Commission expects to deliver the results of its investigation to the USTR by May 6, 2005.

Summary of Proposal:

(1) Number of forms submitted: One.

(2) Title of form: Logistic Services: An Overview of the Global Market and Potential Effects of Removing Trade Impediments, Questionnaire for U.S. and Foreign-Based Service Suppliers.

(3) Type of request: New.

(4) Frequency of use: Service supplier questionnaire, single data gathering, scheduled for 2004.

(5) Description of respondents: U.S. and foreign logistic services suppliers. Logistic services involve the efficient movement of raw materials, intermediate inputs, and finished goods between suppliers, manufacturers, and consumers.

(6) Estimated number of respondents: 42 (Service supplier questionnaire).

(7) Estimated total number of hours to complete the forms: 2100.

(8) Information obtained from the form that qualifies as confidential business information will be so treated by the Commission and not disclosed in a manner that would reveal the individual operations of a firm.

Additional Information or Comment: Copies of the forms and supporting documents may be obtained from Michael Nunes, Project Leader, (202) 205-3462, or Amanda Horan, Deputy Project Leader, (202) 205-3459. Comments about the proposals should be directed to the Office of Management and Budget, Office of Information and Regulatory Affairs, Room 10102 (Docket Library), Washington, DC 20503, Attention: Docket Librarian. All comments should be specific, indicating which part of the questionnaire is objectionable, describing the concern in detail, and including specific suggested revisions or language changes. Copies of any comments should be provided to Robert Rogowsky, Director, Office of Operations, U.S. International Trade Commission, 500 E Street, SW., Washington, DC 20436, who is the Commission's designated Senior Official under the Paperwork Reduction Act.

Hearing impaired individuals are advised that information on this matter can be obtained by contacting our TDD terminal (telephone no. (202) 205-1810). General information concerning the Commission may also be obtained by accessing its Internet server (http://www.usitc.gov).

By order of the Commission.
Issued: October 15, 2004.
Marilyn R. Abbott,
Secretary to the Commission.

[FR Doc. 04-23554 Filed 10-20-04; 8:45 am]

BILLING CODE 7020-02-P